DEPARTMENT OF ENERGY

Federal Energy Regulatory Commission

Combined Notice of Filings #1

Take notice that the Commission received the following electric rate filings:

Docket Numbers: ER24-2085-000.

Applicants: PacifiCorp.

Description: Notice of termination of Rate Schedule 595 for PacifiCorp.

Filed Date: 5/20/24.

Accession Number: 20240520-5230.

Comment Date: 5 p.m. ET 8/30/24.

Docket Numbers: ER24-2392-001.

Applicants: PJM Interconnection, L.L.C.

Description: Tariff Amendment: Amendment of Amended ISA, SA No. 6698; AE2-110 to be effective 8/27/2024.

Filed Date: 8/8/24.

Accession Number: 20240808-5147.

Comment Date: 5 p.m. ET 8/29/24.

Docket Numbers: ER24-2706-000.

Applicants: Navajo Tribal Utility Authority.

Description: Petition for Limited Waiver of Navajo Tribal Utility Authority.

Filed Date: 7/22/24.

Accession Number: 20240722-5231.

Comment Date: 5 p.m. ET 8/16/24.

Docket Numbers: ER24-2725-000.

Applicants: Lone Star Solar, LLC.

Description: Baseline eTariff Filing: Baseline new to be effective 8/9/2024.

Filed Date: 8/8/24.

Accession Number: 20240808-5145.

Comment Date: 5 p.m. ET 8/29/24.

Docket Numbers: ER24-2726-000.

Applicants: MS Solar 4, LLC.

Description: Request for Limited Waiver of MS Solar 4, LLC.

Filed Date: 8/8/24.

Accession Number: 20240808-5151.

Comment Date: 5 p.m. ET 8/29/24.

Docket Numbers: ER24-2727-000.

Applicants: NTUA Generation-Utah, LLC.

Description: Tariff Amendment: Notice of Cancellation of Market-Based Rate Tariff to be effective 5/31/2024.

Filed Date: 8/9/24.

Accession Number: 20240809-5026.

Comment Date: 5 p.m. ET 8/30/24.

Docket Numbers: ER24-2728-000.

Applicants: PacifiCorp.

Description: § 205(d) Rate Filing: Colstrip Trans System LGIA—Concurrence Glendive Wind (RS No. 332) to be effective 6/18/2024.

Filed Date: 8/9/24.

Accession Number: 20240809-5031.

Comment Date: 5 p.m. ET 8/30/24.

Docket Numbers: ER24-2729-000.

Applicants: PacifiCorp.

Description: § 205(d) Rate Filing: Colstrip Trans System LGIA—Concurrence Glendive Wind (RS No. 333) to be effective 6/18/2024.

Filed Date: 8/9/24.

Accession Number: 20240809-5032.

Comment Date: 5 p.m. ET 8/30/24.

Docket Numbers: ER24-2730-000.

Applicants: Deseret Generation & Transmission Co-operative, Inc.

Description: § 205(d) Rate Filing: 2024 Abbreviated Rate Change Filing Moon Lake to be effective 8/10/2024.

Filed Date: 8/9/24.

Accession Number: 20240809-5043.

Comment Date: 5 p.m. ET 8/30/24.

Docket Numbers: ER24-2731-000.

Applicants: FirstEnergy Pennsylvania Electric Company, PJM Interconnection, L.L.C.

Description: § 205(d) Rate Filing: FirstEnergy Pennsylvania Electric Company submits tariff filing per 35.13(a)(2)(iii: FE PA submits Amended CA, SA No. 6640 to be effective 10/9/2024.

Filed Date: 8/9/24.

Accession Number: 20240809-5044.

Comment Date: 5 p.m. ET 8/30/24.

Docket Numbers: ER24-2732-000.

Applicants: Energia Sierra Juarez U.S. Transmission, LLC.

Description: § 205(d) Rate Filing: Filing of Second Amended and Restated Facilities Agreement to be effective 10/9/2024.

Filed Date: 8/9/24.

Accession Number: 20240809-5056.

Comment Date: 5 p.m. ET 8/30/24.

Docket Numbers: ER24-2733-000.

Applicants: Union Electric Company.

Description: § 205(d) Rate Filing: Monthly System Support Resource Payment for Rush Island Energy Center to be effective 9/1/2024.

Filed Date: 8/9/24.

Accession Number: 20240809-5061.

Comment Date: 5 p.m. ET 8/30/24.

Docket Numbers: ER24-2734-000.

Applicants: Southern California Edison Company.

Description: § 205(d) Rate Filing: 1st Amend LGIA, Tumbleweed ES2-Cancel eTariff Record (TOT778-SA215) to be effective 8/10/2024.

Filed Date: 8/9/24.

Accession Number: 20240809-5086.

Comment Date: 5 p.m. ET 8/30/24.

Docket Numbers: ER24-2735-000.

Applicants: Henrietta BESS LLC.

Description: Baseline eTariff Filing: Shared Facilities Agreement Filing to be effective 8/10/2024.

Filed Date: 8/9/24.

Accession Number: 20240809-5092.

Comment Date: 5 p.m. ET 8/30/24.

Docket Numbers: ER24-2736-000.

Applicants: MRP San Joaquin Energy, LLC.

Description: Baseline eTariff Filing: Shared Facilities Agreement Filing to be effective 8/10/2024.

Filed Date: 8/9/24.

Accession Number: 20240809-5094.

Comment Date: 5 p.m. ET 8/30/24.

Docket Numbers: ER24-2737-000.

Applicants: Malaga BESS LLC.

Description: Baseline eTariff Filing: Shared Facilities Agreement Filing to be effective 8/10/2024.

Filed Date: 8/9/24.

Accession Number: 20240809-5095.

Comment Date: 5 p.m. ET 8/30/24.

Docket Numbers: ER24-2738-000.

Applicants: Malaga Power, LLC.

Description: Baseline eTariff Filing: Shared Facilities Agreement Filing to be effective 8/10/2024.

Filed Date: 8/9/24.

Accession Number: 20240809-5096.

Comment Date: 5 p.m. ET 8/30/24.

Docket Numbers: ER24-2739-000.

Applicants: Hanford BESS LLC.

Description: Baseline eTariff Filing: Shared Facilities Agreement Filing to be effective 8/10/2024.

Filed Date: 8/9/24.

Accession Number: 20240809-5101.

Comment Date: 5 p.m. ET 8/30/24.

Docket Numbers: ER24-2740-000.

Applicants: ISO New England Inc., The Connecticut Light and Power Company.

Description: § 205(d) Rate Filing: ISO New England Inc. submits tariff filing per 35.13(a)(2)(iii: ISO-NE/CL&P; Unexecuted Original Service Agreement LGIA-ISONE/CLP-24-01 to be effective 8/10/2024.

Filed Date: 8/9/24.

Accession Number: 20240809-5108.

Comment Date: 5 p.m. ET 8/30/24.

Docket Numbers: ER24-2741-000.

Applicants: BCD 2024 Fund 2 Lessee, LLC.

Description: Tariff Amendment: BCD 2024 Fund 2 Lessee, LLC Notice of Cancellation of MBR Tariff to be effective 8/10/2024.

Filed Date: 8/9/24.

Accession Number: 20240809-5112.

Comment Date: 5 p.m. ET 8/30/24.

Docket Numbers: ER24-2742-000.

Applicants: MRP San Joaquin Energy, LLC.

Description: § 205(d) Rate Filing: Normal filing COC Hanford Filing to be effective 8/10/2024.

Filed Date: 8/9/24.

Accession Number: 20240809-5117.

Comment Date: 5 p.m. ET 8/30/24.

Docket Numbers: ER24-2743-000.

Applicants: Entergy Louisiana, LLC.

Description: § 205(d) Rate Filing: Bayou Galion LBA Agreement to be effective 8/13/2024.

Filed Date: 8/9/24.

Accession Number: 20240809-5137.

Comment Date: 5 p.m. ET 8/30/24.

Docket Numbers: ER24-2744-000.

Applicants: Entergy Louisiana, LLC.

Description: § 205(d) Rate Filing: Sunlight Road LBA Agreement to be effective 9/1/2024.

Filed Date: 8/9/24.

Accession Number: 20240809-5138.

Comment Date: 5 p.m. ET 8/30/24.

Docket Numbers: ER24-2745-000.

Applicants: Huck Finn Solar, LLC.

Description: Tariff Amendment: 2024-08-09 Huck Finn Solar Notice of Cancellation of MBR Tariff to be effective 12/31/9998.

Filed Date: 8/9/24.

Accession Number: 20240809-5143.

Comment Date: 5 p.m. ET 8/30/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 9, 2024.
Debbie-Anne A. Reese,
Acting Secretary.

[FR Doc. 2024-18306 Filed 8-14-24; 8:45 am]

BILLING CODE 6717-01-P